DEPARTMENT OF COMMERCE

National Oceanic and Atmospheric Administration

50 CFR Part 679

[I.D. 013006I]

RIN 0648-AT09

Fisheries of the Exclusive Economic Zone Off Alaska; Groundfish, Crab, Salmon, and Scallop Fisheries of the Bering Sea and Aleutian Islands Management Area and Gulf of Alaska

AGENCY: National Marine Fisheries Service (NMFS), National Oceanic and Atmospheric Administration (NOAA), Commerce.

ACTION: Announcement of availability of proposed amendments to fishery management plans; request for comments.

SUMMARY: The North Pacific Fishery Management Council (Council) has submitted Amendments 78 and 65 to the Fishery Management Plan (FMP) for Groundfish of the Bering Sea and Aleutian Islands Management Area (BSAI), Amendments 73 and 65 to the FMP for Groundfish of the Gulf of Alaska (GOA), Amendments 16 and 12 to the FMP for Bering Sea/Aleutian Islands King and Tanner Crabs, Amendments 7, 9, and 11 to the FMP for the Scallop Fishery Off Alaska, and Amendments 7 and 8 to the FMP for Salmon Fisheries in the Exclusive Economic Zone Off the Coast of Alaska. These amendments, if approved, would revise the FMPs by identifying and authorizing protection measures for essential fish habitat (EFH) and habitat areas of particular concern (HAPCs) in all five FMPs and update the biological and management information in the scallop FMP. This action is necessary to revise the descriptions of EFH in the FMPs based on the best available scientific information and to protect areas that have important habitat features for the sustainability of managed fish stocks. This action also is necessary to provide an updated FMP for scallop fishery management. This action is intended to promote the goals and objectives of the Magnuson-Stevens Fishery Conservation and Management Act (Magnuson-Stevens Act), the FMPs, and other applicable laws. Comments from the public are welcome.

DATES: Comments on the amendments must be received by close of business on April 7, 2006.

ADDRESSES: Send comments to Sue Salveson, Assistant Regional Administrator, Sustainable Fisheries Division, Alaska Region, NMFS, Attn: Records Officer. Comments may be submitted by:

• Mail: P.O. Box 21668, Juneau, AK 99802.

• Hand delivery: 709 West 9th Street, Room 420A, Juneau, AK.

• Fax: 907-586-7557.

• E-mail: EFH-HAPC-NOA-0648-AT09@noaa.gov. Include in the subject line the following document identifier: EFH-HAPC NOA. E-mail comments, with or without attachments, are limited to 5 megabytes.

• Webform at the Federal eRulemaking Portal: www.regulations.gov. Follow the instructions at that site for submitting comments.

Copies of FMP amendments, maps of the EFH and HAPC areas, the Environmental Impact Statement (EIS) for EFH, and the Environmental Assessment/Regulatory Impact Review/Initial Regulatory Flexibility Analysis (EA/RIR/IRFA) for HAPCs may be obtained from the same address or from the Alaska Region NMFS website at www.fakr.noaa.gov.

FOR FURTHER INFORMATION CONTACT: Melanie Brown, 907-586-7228 or melanie.brown@noaa.gov.

SUPPLEMENTARY INFORMATION: The Magnuson-Stevens Act requires that the Council submit any FMP amendment it prepares to NMFS for review and approval, disapproval, or partial approval. The Magnuson-Stevens Act also requires that NMFS, upon receiving a FMP amendment, immediately publish a notice in the Federal Register that the amendment is available for public review and comment.

Section 303(a)(7) of the Magnuson-Stevens Act requires that each FMP describe and identify EFH, minimize to the extent practicable the adverse effects of fishing on EFH, and identify other measures to promote the conservation and enhancement of EFH. The Council adopted the EFH and HAPC amendments in February 2005. If approved by NMFS, these amendments would revise the FMPs by updating the description and identification of EFH, changing the identification of HAPCs, and authorizing protection measures for EFH and HAPCs. This action would continue the Council's policy of implementing precautionary conservation measures for the Alaska fisheries, as described in the management policies and objectives added to the groundfish FMPs in 2004 (69 FR 31091, June 2, 2004).

The Council developed the EFH and HAPC FMP amendments as a result of a new and thorough EIS analysis of the measures needed to identify and conserve EFH in Alaska. The analysis stemmed from a United States District Court order resulting from litigation that challenged the approval of previous EFH amendments to the Council's FMPs (American Oceans Campaign et al. v. Daley et al., Civil Action N. 99-982-GK).

The amendments specify EFH and HAPC provisions for each FMP. The following summarizes the amendments under each group of provisions. The EIS for EFH, the EA/RIR/IRFA for HAPC, and maps of the proposed fishery restrictions described below are available from NMFS (see ADDRESSES).

EFH Amendments

The Council recommended three actions for EFH. Action 1 would revise the description and identification of EFH in the FMPs using new information and improved mapping. This action would ensure the best scientific information available is used to describe and identify EFH in the FMPs, as required by 50 CFR 600.815(a)(1)(ii)(B). Action 2 would adopt an approach for identifying HAPCs. The amendments would rescind existing HAPCs and would add a procedure for identifying HAPCs based on specific sites within EFH that are necessary to address particular habitat concerns.

Action 3 would establish several types of management areas in the BSAI and the GOA to minimize the adverse effects of fishing on EFH. The Aleutian Islands Habitat Conservation Area (AIHCA) would consist of the entire Aleutian Islands subarea except for specified areas that have supported the highest groundfish catches in the past. The AIHCA would be closed to all nonpelagic trawling to protect relatively undisturbed habitats. The Council determined that the AIHCA would provide a balance between continued fishing in the Aleutian Islands subarea and protection of sensitive habitats such as cold water corals. This closure would include habitat areas that are not identified as EFH. Specifically, the AIHCA would include habitat areas that extend beyond the limits of EFH for groundfish, crabs, and scallops. The Council has identified the water column in all of these areas as EFH for marine salmon, but the bottom habitats have not been well surveyed, and therefore are not considered EFH. The Council developed the AIHCA primarily to address potential effects on EFH, but included these habitat areas outside of EFH as part of the Council's overall effort to be precautionary and preclude damage to habitats that may be important for Council managed species.

The EFH amendments also would establish six Aleutian Islands Coral Habitat Protection Areas (AICHPAs) that would be closed to all bottom contact gear (nonpelagic trawl, hook-and-line, pot, dredge, and dinglebar gears) and to anchoring by fishing vessels. These areas contain especially diverse and fragile living habitat structures that are particularly sensitive to the impacts of bottom contact gear and anchoring, and have long recovery times once damaged. The Council determined that a higher level of protection is appropriate for these uncommon habitats.

In the GOA, the EFH amendments would establish ten GOA Slope Habitat Conservation Areas (GOASHCAs) where nonpelagic trawling for groundfish would be prohibited. These areas would provide refuge for rockfish and other managed species and long term protection for corals. Pelagic trawl gear used in the directed pollock fishery would be allowed in the AIHCA, AICHPAs, and GOASHCAs only in an off-bottom mode based on the performance standard contained in 50 CFR 679.7(a)(14).

HAPC Amendments

The Council also recommended three actions to identify and manage HAPCs. Action 1 identifies 15 Alaska Seamount Habitat Protection Areas where all bottom contact gear and anchoring by fishing vessels would be prohibited. Seamounts provide unique oceanographic and living habitat features that provide important habitat for fish. Action 2 establishes the GOA Coral Habitat Protection Areas where all bottom contact gear and anchoring by fishing vessels would be prohibited. During survey work using submersible dives, NMFS identified dense thickets of Primnoa sp. coral in these areas. These living habitat structures grow very slowly, are sensitive to disturbance by bottom contact gear and anchoring, have long recovery times, and have been identified as potential refugia for managed species. Restricting bottom contact gear and anchoring would ensure the living structures would be protected from fishing activities that may adversely impact the habitat.

Action 3 would designate the Bowers Ridge Habitat Conservation Zone (BRHCZ) as a HAPC located in the BSAI and would prohibit mobile bottom contact fishing gear (nonpelagic trawl, dredge, and dinglebar gear) in this area. The Council recommended limiting the fishery prohibition for the BRHCZ to mobile bottom contact gear until more research can be done in this area to determine if additional restrictions would be appropriate for fixed gear fisheries. The mobile bottom contact gear prohibition would provide precautionary management for Bowers Ridge and the Ulm Plateau based on the limited information available for these sites located in the BRHCZ.

Scallop FMP Update

In April 2005, the Council unanimously voted to adopt Amendment 11, a housekeeping amendment that would update the scallop FMP to reflect the current management of the scallop fishery and recent biological information. No implementing regulations would be required for this amendment.

Public Comments

NMFS is soliciting public comments on the proposed amendments through April 7, 2006. A proposed rule that would implement the EFH and HAPC amendments will be published in the Federal Register for public comment at a later date, following NMFS' evaluation under the Magnuson-Stevens Act procedures. Public comments on the proposed rule must be received by the end of the comment period on the amendments in order to be considered in the approval/disapproval decision on the amendments. All comments received on the amendments by the end of the comment period, whether specifically directed to the amendments or to the proposed rule, will be considered in the approval/disapproval decision. Comments received after that date will not be considered in the approval/disapproval decision on the amendments. To be considered, comments must be received—not just postmarked or otherwise transmitted—by close of business on the last day of the comment period.

Authority: 16 U.S.C. 1801 et seq.

Dated: January 31, 2006.
Alan D. Risenhoover,
Acting Director, Office of Sustainable Fisheries, National Marine Fisheries Service.

[FR Doc. 06-1083 Filed 2-3-06; 8:45 am]

BILLING CODE 3510-22-S